DEPARTMENT OF AGRICULTURE

Forest Service

Notice of Resource Advisory Committee Meeting

AGENCY: North Central Idaho Resource Advisory Committee, Grangeville, Idaho, Forest Service, USDA.

ACTION: Notice of meeting.

SUMMARY: Pursuant to the authorities in the Federal Advisory Committee Act (Public Law 92-463) and under the Secure Rural Schools and Community Self-Determination Act of 2000 (Public Law 106-393) the Nez Perce and Clearwater National Forests' North Central Idaho Resource Advisory Committee will meet Thursday, July 25, 2002 (The date of June 25, 2002 for this meeting, published on July 2, 2002, was incorrect) in Elk City, Idaho for a business meeting. The meeting is open to the public.

FOR FURTHER INFORMATION CONTACT: Ihor Mereszczak, Staff Officer and Designated Federal Officer, at (208) 983-1950.

SUPPLEMENTARY INFORMATION: The business meeting on July 25 begins at 2 p.m., at the Elk City Forest Service Ranger Station, Elk City, Idaho. Agenda topics will include review FY03 work plans. A public forum will begin at 3 p.m. (PST).

Dated: July 1, 2002.
Ihor Mereszczak,
Acting Forest Supervisor.

[FR Doc. 02-17252 Filed 7-9-02; 8:45 am]

BILLING CODE 3410-11-M